DEPARTMENT OF COMMERCE

National Institute of Standards and Technology

Visiting Committee on Advanced Technology

AGENCY: National Institute of Standards and Technology, Department of Commerce.

ACTION: Notice of public meeting.

SUMMARY: Pursuant to the Federal Advisory Committee Act, 5 U.S.C. app. 2, notice is hereby given that the Visiting Committee on Advanced Technology (VCAT), National Institute of Standards and Technology (NIST), will meet Tuesday, September 12, from 8:30 a.m. to 4:45 p.m. The Visiting Committee on Advanced Technology is composed of fifteen members appointed by the Director of NIST who are eminent in such fields as business, research, new product development, engineering, labor, education, management consulting, environment, and international relations.

The purpose of this meeting is to review and make recommendations regarding general policy for the Institute, its organization, its budget, and its programs within the framework of applicable national policies as set forth by the President and the Congress. The agenda will include an update on NIST's activities, a vision and overview of NIST's biotechnology and health care activities, technical program highlights in biotechnology and health care, a presentation on research at the NIST's Center for Nanoscale Science and Technology (CNST), and an overview and laboratory tours of JILA. JILA is a joint research institution of NIST and the University of Colorado. In addition, Dr. Lee Hood, President of the Institute for Systems Biology, will deliver a talk entitled, “Systems Medicine: Measurement and Computational Challenges in the Emergence of Predictive, Preventive, Personalized and Participatory Medicine.” The agenda may change to accommodate Committee business. The final agenda will be posted on the NIST Web site at http://www.nist.gov/director/vcat/agenda.htm.

DATES: The meeting will convene on September 12 at 8:30 a.m. and will adjourn on September 12 at 4:45 p.m.

ADDRESSES: The meeting will be held in Building 1, Room 1107, at NIST, Boulder, Colorado. All visitors to the NIST site will have to pre-register to be admitted. Please submit your name, time of arrival, e-mail address and phone number to Carolyn Peters no later than Thursday, September 7, and she will provide you with instructions for admittance. Mrs. Peter's e-mail address is carolyn.peters@nist.gov and her phone number is (301) 975-5607.

FOR FURTHER INFORMATION CONTACT: Carolyn Peters, Visiting Committee on Advanced Technology, National Institute of Standards and Technology, Gaithersburg, Maryland 20899-1000, telephone number (301) 975-5607.

Dated: August 24, 2006.
William Jeffrey,
Director.

[FR Doc. 06-7287 Filed 8-30-06; 8:45 am]

BILLING CODE 3510-13-P